DEPARTMENT OF DEFENSE

Department of the Air Force

Privacy Act of 1974; System of Records

AGENCY: Department of the Air Force, DoD.

ACTION: Notice to delete systems of records.

SUMMARY: The Department of the Air Force is deleting fourteen systems of records notices from its existing inventory of record systems subject to the Privacy Act of 1974, (5 U.S.C. 552a), as amended. These records are now under the cognizance of the Defense Finance and Accounting Service (DFAS) and are being maintained under DFAS Privacy Act systems of records notices.

DATES: This proposed action will be effective without further notice on August 25, 2004 unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 696-6280.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: July 20, 2004.
L.M. Bynum,
Alternate OSD Federal Register Liaison Officer, Department of Defense.

F065 AFA A

System name:

Cadet Accounting and Finance System (June 11, 1997, 62 FR 31793).

Reason:

Records are now under the cognizance of the Defense Finance and Accounting Service (DFAS) and are being maintained under DFAS Privacy Act systems of records notices.

F065 AF AFC A

System name:

Accounts Payable Records (June 11, 1997, 62 FR 31793).

Reason:

Records are now under the cognizance of the Defense Finance and Accounting Service (DFAS) and are being maintained under DFAS Privacy Act systems of records notices.

F065 AF AFC B

System name:

Accounts Receivable Records Maintained by Accounting and Finance (June 11, 1997, 62 FR 31793).

Reason:

Records are now under the cognizance of the Defense Finance and Accounting Service (DFAS) and are being maintained under DFAS Privacy Act systems of records notices.

F065 AF AFC F

System name:

Reports of Survey (June 11, 1997, 62 FR 31793).

Reason:

Records are now under the cognizance of the Defense Finance and Accounting Service (DFAS) and are being maintained under DFAS Privacy Act systems of records notices.

F065 AFAFC A

System name:

Accounting and Finance Officer Accounts and Substantiating Documents (June 11, 1997, 62 FR 31793).

Reason:

Records are now under the cognizance of the Defense Finance and Accounting Service (DFAS) and are being maintained under DFAS Privacy Act systems of records notices.

F065 AFAFC B

System name:

Accrued Military Pay System, Discontinued (June 11, 1997, 62 FR 31793).

Reason:

Records are now under the cognizance of the Defense Finance and Accounting Service (DFAS) and are being maintained under DFAS Privacy Act systems of records notices.

F065 AFAFC D

System name:

Claims Case File—Active Duty Casualty Case Records (June 11, 1997, 62 FR 31793).

Reason:

Records are now under the conginzance of the Defense Finance and Accounting Service (DFAS) and are being maintained under DFAS Privacy Act systems of records notices.

F065 AFAFC E

System name:

Claims Case File—Corrected Military Records (June 11, 1997, 62 FR 31793).

Reason:

Records are now under the cognizance of the Defense Finance and Accounting Service (DFAS) and are being maintained under DFAS Privacy Act systems of records notices.

F065 AFAFC F

System name:

Claims Case File—Missing in Action Data (June 11, 1997, 62 FR 31793).

Reason:

Records are now under the cognizance of the Defense Finance and Accounting Service (DFAS) and are being maintained under DFAS Privacy Act systems of records notices.

F065 AFAFC H

System name:

Loss of Funds Case Files (June 11, 1997, 62 FR 31793).

Reason:

Records are now under the cognizance of the Defense Finance and Accounting Service (DFAS) and are being maintained under DFAS Privacy Act systems of records notices.

F065 AFAFC I

System name:

Military Pay Records (June 11, 1997, 62 FR 31793).

Reason:

Records are now under the cognizance of the Defense Finance and Accounting Service (DFAS) and are being maintained under DFAS Privacy Act systems of records notices.

F065 AFAFC J

System name:

Pay and Allotment Records (June 11, 1997, 62 FR 31793).

Reason:

Records are now under the cognizance of the Defense Finance and Accounting Service (DFAS) and are being maintained under DFAS Privacy Act systems of records notices.

F065 AFAFC L

System name:

Legal Administration Records of the Staff Judge Advocate (June 11, 1997, 62 FR 31793).

Reason:

Records are now under the cognizance of the Defense Finance and Accounting Service (DFAS) and are being maintained under DFAS Privacy Act systems of records notices.

F065 AETC A

System name:

Air Force ROTC Cadet Pay System (June 11, 1997, 62 FR 31793).

Reason:

Records are now under the cognizance of the Defense Finance and Accounting Service (DFAS) and are being maintained under DFAS Privacy Act systems of records notices.

[FR Doc. 04-16936 Filed 7-23-04; 8:45 am]

BILLING CODE 5001-06-M